DEPARTMENT OF ENERGY

Federal Energy Regulatory Commission

Combined Notice of Filings #1

Take notice that the Commission received the following electric rate filings:

Docket Numbers: ER17-1648-000.

Applicants: Midcontinent Independent System Operator, Inc.

Description: Midcontinent Independent System Operator, Inc. tariff filing per 35.19a(b): Refund Report for Illinois Power Generating Company to be effective N/A.

Filed Date: 10/17/17.

Accession Number: 20171017-5201.

Comments Due: 5 p.m. ET 11/7/17.

Docket Numbers: ER17-2471-001.

Applicants: ORNI 43 LLC.

Description: Tariff Amendment: Amendment to Petition of ORNI 43 LLC to be effective 9/18/2017.

Filed Date: 10/18/17.

Accession Number: 20171018-5059.

Comments Due: 5 p.m. ET 11/8/17.

Docket Numbers: ER17-2472-001.

Applicants: ONGP LLC.

Description: Tariff Amendment: Amendment to Petition of ONGP LLC to be effective 9/18/2017.

Filed Date: 10/18/17.

Accession Number: 20171018-5064.

Comments Due: 5 p.m. ET 11/8/17.

Docket Numbers: ER18-90-000.

Applicants: Frenchtown II Solar, LLC.

Description: Baseline eTariff Filing: Frenchtown II Reactive Power Filing to be effective 12/18/2017.

Filed Date: 10/17/17.

Accession Number: 20171017-5136.

Comments Due: 5 p.m. ET 11/7/17.

Docket Numbers: ER18-91-000.

Applicants: California Independent System Operator Corporation.

Description: § 205(d) Rate Filing: 2017-10-17 2017 Grid Management Charge—Cost of Service Study Update to be effective 1/1/2018.

Filed Date: 10/17/17.

Accession Number: 20171017-5138.

Comments Due: 5 p.m. ET 11/7/17.

Docket Numbers: ER18-92-000.

Applicants: Carroll County Energy LLC.

Description: Baseline eTariff Filing: Reactive Power Tariff Application to be effective 12/1/2017.

Filed Date: 10/17/17.

Accession Number: 20171017-5154.

Comments Due: 5 p.m. ET 11/7/17.

Docket Numbers: ER18-93-000.

Applicants: American Transmission Systems, Incorporated, PJM Interconnection, L.L.C.

Description: § 205(d) Rate Filing: ATSI submits Revised Interconnection Agreement SA No. 3992 to be effective 12/19/2017.

Filed Date: 10/18/17.

Accession Number: 20171018-5051.

Comments Due: 5 p.m. ET 11/8/17.

Docket Numbers: ER18-94-000.

Applicants: Midcontinent Independent System Operator, Inc.

Description: § 205(d) Rate Filing: 2017-10-18_Cedar Falls Utilities request for approval of Attachment O-CFU to be effective 1/1/2018.

Filed Date: 10/18/17.

Accession Number: 20171018-5056.

Comments Due: 5 p.m. ET 11/8/17.

Docket Numbers: ER18-95-000.

Applicants: Buchanan Energy Services Company, LLC.

Description: Baseline eTariff Filing: Application for Market-Based Rate Authorization and Request for Waivers to be effective 10/19/2017.

Filed Date: 10/18/17.

Accession Number: 20171018-5062.

Comments Due: 5 p.m. ET 11/8/17.

Docket Numbers: ER18-96-000.

Applicants: Midcontinent Independent System Operator, Inc.

Description: § 205(d) Rate Filing: 2017-10-18_SA 2853 1st Rev Certificate of Concurrence IMTCO-NIPSCO Agreement to be effective 7/19/2017.

Filed Date: 10/18/17.

Accession Number: 20171018-5079.

Comments Due: 5 p.m. ET 11/8/17.

Docket Numbers: ER18-97-000.

Applicants: MS Solar 3, LLC.

Description: Baseline eTariff Filing: Application for Market Based Rate to be effective 11/1/2017.

Filed Date: 10/18/17.

Accession Number: 20171018-5120.

Comments Due: 5 p.m. ET 11/8/17.

Docket Numbers: ER18-98-000.

Applicants: Southern California Edison Company.

Description: Tariff Cancellation: Notice of Cancellation LGIA AES North America Development, LLC to be effective 8/31/2017.

Filed Date: 10/18/17.

Accession Number: 20171018-5125.

Comments Due: 5 p.m. ET 11/8/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 18, 2017.
Nathaniel J. Davis, Sr.,
Deputy Secretary.

[FR Doc. 2017-22985 Filed 10-23-17; 8:45 am]

BILLING CODE 6717-01-P